DEPARTMENT OF THE INTERIOR

National Park Service

Gates of the Arctic National Park Subsistence Resource Commission; Meeting Announcement

AGENCY: National Park Service, Interior.

ACTION: Announcement of Gates of the Arctic National Park Subsistence Resource Commission (SRC) meeting.

SUMMARY: Notice is hereby given in accordance with the Federal Advisory Committee Act that a meeting of the Gates of the Arctic National Park Subsistence Resource Commissions will be held at Fairbanks, Alaska. The purpose of the meeting will be to continue work on currently authorized and proposed National Park Service subsistence hunting program recommendations including other related subsistence management issues. The meeting will be open to the public. Any person may file with the Commission a written statement concerning the matters to be discussed.

The Subsistence Resource Commission is authorized under title VIII, section 808, of the Alaska National Interest Lands Conservation Act, Pub. L. 96-487, and operates in accordance with the provisions of the Federal Advisory Committee Act.

DATES: The meeting will begin on Wednesday, November 12, at 9 a.m. and conclude at approximately 5 p.m. The meeting will reconvene at 9 a.m. on Thursday, November 13, 2003, and adjourn at approximately 5 p.m.

LOCATION: The Commission plans to conduct the public meeting at Sophie's Station Hotel, telephone (907) 479-3650, in Fairbanks, Alaska.

SUPPLEMENTARY INFORMATION: Notice of this meeting will be published in local newspapers and announced on local radio stations prior to the meeting dates. The agenda for the meeting is as follows:

1. Call to order (SRC Chair).

2. SRC Roll Call and Confirmation of Quorum.

3. SRC Chair and Superintendent's Welcome and Introductions.

4. Review and Approve Agenda.

5. Review and adopt minutes from May 22-23, 2003 meeting.

6. Review Commission Purpose and Status of Membership.

7. Superintendent's Report.

8. SRC, Public and Agency Comments.

9. Durational Residency.

10. John River Water Quality Study.

11. Alatna River Archeological Study.

12. North Slope/Anaktuvuk Pass Fishery Study.

13. Cultural Resources Update.

14. Backcountry Planning Update.

15. Kobuk River Management Issues.

16. 2003 SRC Chairs Workshop Update.

17. Western Arctic Caribou Herd Working Group Update.

18. Federal Subsistence Board Wildlife Proposals.

19. Set time and place of next SRC meeting.

20. Adjournment.

Draft minutes of the meeting will be available for public inspection approximately six weeks after the meeting from the Superintendent, Gates of the Arctic National Park and Preserve, 201 First Ave., Fairbanks, Alaska, 99701.

FOR FURTHER INFORMATION CONTACT: Dave Mills, Superintendent, at (907) 457-5752 or Fred Andersen, Subsistence Manager, at (907) 455-0621.

Victor Knox,
Acting Regional Director, Alaska.

[FR Doc. 03-24652 Filed 9-29-03; 8:45 am]

BILLING CODE 4312-HK-P